DEPARTMENT OF HEALTH AND HUMAN SERVICES

Centers for Disease Control and Prevention

Notice of Award of a Sole Source Cooperative Agreement To Fund International Union Against Tuberculosis and Lung Disease (The Union)

AGENCY: Centers for Disease Control and Prevention (CDC), Department of Health and Human Services (HHS).

ACTION: Notice.

SUMMARY: The Centers for Disease Control and Prevention (CDC), located within the Department of Health and Human Services (HHS), announces the award of approximately $500,000, for Year 1 funding to The Union. The award will continue developing and updating Tuberculosis (TB) scientific and programmatic resources, disseminating TB best practices, and building TB capacity. Funding amounts for years 2-5 will be set at continuation.

DATES: The period for this award will be September 30, 2024, through September 29, 2029.

FOR FURTHER INFORMATION CONTACT: Victoria Tully, Center for Global Health, Centers for Disease Control and Prevention, 1600 Clifton Road, MS US1-1 Atlanta, Georgia 30329, Telephone: 404.718.2549, E-Mail: nts2@cdc.gov.

SUPPLEMENTARY INFORMATION: The sole source award will focus on developing and updating scientific and programmatic resources, disseminating clinical and programmatic best practices, and building capacity. These activities are expected to equip health officials, health professionals, and health care and public health workers with skills and knowledge based on the latest TB recommendations.

The Union is in a unique position to conduct this work, as it was given the mandate: (1) to establish a Federation amongst the national associations or organizations engaged in the campaign against TB, to coordinate their efforts throughout the world, and to work in collaboration with international organizations to end TB disease; (2) to organize scientific conferences and congresses regarding TB; (3) to compare national legislation in preventing and controlling TB; (4) to collect international TB statistics; (5) to stimulate scientific and social investigations regarding the distribution, spread, prevention, and treatment of TB in various countries; and (6) to collect and distribute information to national organizations included in The Union on all questions concerning scientific and sociological study on TB. The Union is uniquely qualified to combat TB and lung disease globally and to offer training and other capacity-building activities leading to health solutions for the poor in resource limited countries, the key activities under this NOFO, due to its WHO-recognized accomplishments and leadership role in the global TB fight since its founding in 1920.

Summary of the Award

Recipient: International Union Against Tuberculosis and Lung Disease (The Union).

Purpose of the Award: The purpose of this award is to continue developing and updating TB scientific and programmatic resources, disseminating TB best practices, and building TB capacity.

Amount of Award: For The Union, the approximate year 1 funding amount will be $500,000 in Federal Fiscal Year (FYY) 2024 funds, subject to the availability of funds. Funding amounts for years 2-5 will be set at continuation.

Non-PEPFAR Authority: This program is authorized under section 307 of the Public Health Service Act (42 U.S.C. 242l), as amended and section 301(a) of the Public Health Service Act (42 U.S.C. 241(a)), as amended.

Period of Performance: The period for this award will be September 30, 2024, through September 29, 2029.

Dated: March 13, 2024.
Jamie Legier,
Acting Director, Office of Grants Services, Centers for Disease Control and Prevention.

[FR Doc. 2024-05771 Filed 3-18-24; 8:45 am]

BILLING CODE 4163-18-P